DEPARTMENT OF TRANSPORTATION

Federal Aviation Administration

Agency Information Collection Activities: Requests for Comments; Clearance of Renewed Approval of Information Collection: Revisions to Digital Flight Data Recorders

AGENCY: Federal Aviation Administration (FAA), DOT.

ACTION: Notice and request for comments.

SUMMARY: In accordance with the Paperwork Reduction Act of 1995, FAA invites public comments about our intention to request the Office of Management and Budget (OMB) approval to renew an information collection. The FAA amended the regulations governing flight data recorders to increase the number of digital flight data recorder parameters for certain Boeing airplanes. This requirement affects all Boeing 737 series airplanes manufactured after August 18, 2000. This change was based on safety recommendations from the National Transportation Safety Board following its investigations of two accidents and several incidents involving 737s.

DATES: Written comments should be submitted by January 23, 2012.

FOR FURTHER INFORMATION CONTACT: Kathy DePaepe at (405) 954-9362, or by email at: Kathy.A.DePaepe@faa.gov.

SUPPLEMENTARY INFORMATION: OMB Control Number: 2120-0616.

Title: Revisions to Digital Flight Data Recorders.

Form Numbers: There are no FAA forms associated with this collection.

Type of Review: Renewal of an information collection.

Background: Section 49 United States Code 40113(a) empowers the Secretary of Transportation (or the Administrator of the Federal Aviation Administration) to issue such regulations as he/she shall deem necessary to carry out the provisions of the Act. Section 49 United States Code 44701 empowers the Secretary of Transportation (or the Administrator of the Federal Aviation Administration) to prescribe reasonable rules and regulations, or minimum standards necessary for safety in air commerce. In the case of a B737 airplane accident, when the flight data recorder is retrieved from the scene, the information recorded by the aircraft's recorder will be downloaded and analyzed by accident investigators at the NTSB to determine probable cause. The data is automatically recorded by the flight data recorder; this is a passive information collection requiring no effort by respondents to collect the information.

Respondents: Approximately 2,960 Boeing 737 aircraft.

Frequency: Data is electronically recorded constantly for a period of 25 hours of aircraft operation. Old information is overwritten on a continuing basis.

Estimated Average Burden per Response: Not applicable.

Estimated Total Annual Burden: 1 hour is to be entered into OMB's inventory as a placeholder figure for this passive information collection.

ADDRESSES: Send comments to the FAA at the following address: Ms. Kathy DePaepe, Room 126B, Federal Aviation Administration, AES-200, 6500 S. MacArthur Blvd., Oklahoma City, OK 73169.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on November 14, 2011.
Albert R. Spence,
FAA Assistant Information Collection Clearance Officer, IT Enterprises Business Services Division, AES-200.

[FR Doc. 2011-30082 Filed 11-21-11; 8:45 am]

BILLING CODE 4910-13-P